ENVIRONMENTAL PROTECTION AGENCY

40 CFR Part 52

[EPA-R10-OAR-2017-0184; FRL-9966-80-Region 10]

Approval and Promulgation of Implementation Plans; AK: Adoption Updates and Rule Revisions

AGENCY: Environmental Protection Agency (EPA).

ACTION: Final rule.

SUMMARY: The Environmental Protection Agency (EPA) is approving state implementation plan (SIP) revisions submitted by the State of Alaska Department of Environmental Conservation (ADEC) on September 15, 2016. These revisions primarily update adoptions of Federal regulations in the Alaska SIP. The revisions also strengthen the State of Alaska's (Alaska or State) minor source permitting requirements and remove obsolete source-category specific regulations. In addition, EPA is approving SIP revisions to Alaska's general and transportation conformity regulations submitted by ADEC on March 10, 2016. The EPA is taking action only on the conformity related portions of the March 2016 submittal. The other portions of the submittal are or will be addressed in separate actions.

DATES: This final rule is effective September 27, 2017.

ADDRESSES: EPA has established a docket for this action under Docket ID No. EPA-R10-OAR-2017-0184. All documents in the docket are listed on the https://www.regulations.gov Web site. Although listed in the index, some information may not be publicly available, i.e., Confidential Business Information or other information the disclosure of which is restricted by statute. Certain other material, such as copyrighted material, is not placed on the Internet and is publicly available only in hard copy form. Publicly available docket materials are available at http://www.regulations.gov or at EPA Region 10, Office of Air and Waste, 1200 Sixth Avenue, Seattle, Washington 98101. EPA requests that you contact the person listed in the FOR FURTHER INFORMATION CONTACT section below, to schedule your inspection. The Regional Office's official hours of business are Monday through Friday, 8:30 to 4:30, excluding federal holidays.

FOR FURTHER INFORMATION CONTACT: Randall Ruddick, Air Planning Unit, Office of Air and Waste (OAW-150), Environmental Protection Agency, Region 10, 1200 Sixth Ave, Suite 900, Seattle, WA 98101; phone: (206) 553-1999; email: ruddick.randall@epa.gov.

SUPPLEMENTARY INFORMATION: Throughout this document wherever “we,” “us,” or “our” is used, it is intended to refer to the EPA.

Table of Contents

I. Background

II. Final Action

III. Incorporation by Reference

IV. Statutory and Executive Orders Review

I. Background

On March 10, 2016 and September 15, 2016, Alaska submitted SIP revisions to EPA for approval. On June 13, 2017, the EPA proposed to approve the conformity portions of Alaska's March 10, 2016 submittal and all of the revisions requested in the September 15, 2016 submittal (82 FR 27031). Please see our proposed rulemaking for further explanation and the basis for our finding. The public comment period for this proposal ended on July 13, 2017. We received two supportive comments.

II. Final Action

EPA is approving, and incorporating by reference where appropriate in Alaska's SIP, all revisions requested by Alaska on September 15, 2016 (state effective August 20, 2016) to the following provisions:

• 18 AAC 50.010(4) (Ambient Air Quality Standards)

• 18 AAC 50.020(a) (Baseline Dates and Maximum Allowable Increases)

• 18 AAC 50.035(a)(3) and (a)(7) (Documents, Procedures, and Methods Adopted by Reference)

• 18 AAC 50.040(f) and (h) (Federal Standards Adopted by Reference)

• 18 AAC 50.215(a)(3) (Ambient Air Quality Analysis Methods)

• 18 AAC 50.345(o) (Construction, Minor and Operating Permits: Standard Permit Conditions)

• 18 AAC 50.502(c), (e), (f), (f)(1)(C), (f)(5), (g), (h)(3)(A), and (h)(3)(B) (Minor Permits for Air Quality Protection)

• 18 AAC 50.540 (c)(2)(A) (Minor Permit: Application)

• 18 AAC 50.542(b)(5) and (d)(1) (Minor Permit: Review and Issuance)

At Alaska's request, EPA is also removing from the SIP the following provisions that ADEC repealed as a matter of state law: 18 AAC 50.055(a)(2), (a)(3), (a)(7), (a)(8), (b)(4), (b)(6), (f) (Industrial Process and Fuel-Burning Equipment) and 18 AAC 50.060 (Pulp Mills).

Finally, EPA is approving revisions to 18 AAC 50, Article 7, Transportation Conformity, submitted by Alaska on March 10, 2016; specifically, the revisions to transportation conformity provisions in 18 AAC 50.715 and 50.720, and the removal of the general conformity provisions in 50.735.

We have determined that the submitted SIP revisions are consistent with section 110 and part C of Title I of the CAA.

III. Incorporation by Reference

In this rule, EPA is approving regulatory text that includes incorporation by reference. In accordance with requirements of 1 CFR 51.5, we are incorporating by reference the provisions described above in Section II. Final Action and set forth below, as amendments to 40 CFR part 52. EPA has made, and will continue to make, these documents generally available electronically through http://www.regulations.gov and/or at the EPA Region 10 office (please contact the person identified in the FOR FURTHER INFORMATION, CONTACT section of this preamble for more information).

IV. Statutory and Executive Orders Review

Under the CAA, the Administrator is required to approve a SIP submission that complies with the provisions of the CAA and applicable federal regulations. 42 U.S.C. 7410(k); 40 CFR 52.02(a). Thus, in reviewing SIP submissions, EPA's role is to approve state choices, provided that they meet the criteria of the CAA. Accordingly, this action merely approves state law as meeting federal requirements and does not impose additional requirements beyond those imposed by state law. For that reason, this action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because this action does not involve technical standards; and

• does not provide EPA with the discretionary authority to address, as appropriate, disproportionate human health or environmental effects, using practicable and legally permissible methods, under Executive Order 12898 (59 FR 7629, February 16, 1994).

In addition, the SIP is not approved to apply on any Indian reservation land or in any other area where EPA or an Indian Tribe has demonstrated that a Tribe has jurisdiction. In those areas of Indian country, the rule does not have Tribal implications as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under CAA section 307(b)(1), petitions for judicial review of this action must be filed in the United States Court of Appeals for the appropriate circuit by October 27, 2017. Filing a petition for reconsideration by the Administrator of this final rule does not affect the finality of this action for the purposes of judicial review nor does it extend the time within which a petition for judicial review may be filed, and shall not postpone the effectiveness of such rule or action. This action may not be challenged later in proceedings to enforce its requirements. (See CAA section 307(b)(2)).

List of Subjects in 40 CFR Part 52

Environmental protection, Air pollution control, Administrative practice and procedure, Incorporation by reference, Intergovernmental relations, Lead, Nitrogen dioxide, Ozone, Particulate matter, Reporting and recordkeeping requirements, Sulfur oxides, Volatile organic compounds.

Authority: 42 U.S.C. 7401 et seq.

Dated: August 10, 2017.
Michelle L. Pirzadeh,
Acting Regional Administrator, Region 10.

For the reasons set forth in the preamble, 40 CFR part 52 is amended as follows:

PART 52—APPROVAL AND PROMULGATION OF IMPLEMENTATION PLANS

1. The authority citation for part 52 continues to read as follows:

Authority: 42 U.S.C. 7401 et seq.

Subpart C—Alaska

2. In § 52.70, the table in paragraph (c) is amended by:

a. Revising entries 18 AAC 50.010, 18 AAC 50.020, 18 AAC 50.035, 18 AAC 50.040, 18 AAC 50.055;

b. Removing entry 18 AAC 50.060;

c. Revising entries 18 AAC 50.215, 18 AAC 50.345, 18 AAC 50.502, 18 AAC 50.540, 18 AAC 50.542, 18 AAC 50.715, and 18 AAC 50.720; and

d. Removing entry 18 AAC 50.735.

The revisions read as follows:

§ 52.70 Identification of plan.

* * * * *

(c) * * *

EPA-Approved Alaska Regulations and statutes
State citation | Title/subject | State effective date | EPA approval date | Explanations
Alaska Administrative Code Title 18 Environmental Conservation, Chapter 50 Air Quality
Control (18 AAC 50)
18 AAC 50 Article 1. Ambient Air Quality Management
* * * * * * *
18 AAC 50.010 | Ambient Air Quality Standards | 8/20/16 | 8/28/17 [Insert Federal Register citation] | Except (8).
* * * * * * *
18 AAC 50.020 | Baseline Dates and Maximum Allowable Increases | 8/20/16 | 8/28/17 [Insert Federal Register citation] |
* * * * * * *
18 AAC 50.035 | Documents, Procedures and Methods Adopted by Reference | 8/20/16 | 8/28/17 [Insert Federal Register citation] | Except (a)(6) and (b)(4).
18 AAC 50.040 | Federal Standards Adopted by Reference | 8/20/16; 11/9/14 | 8/28/17 [Insert Federal Register citation] | Except (a), (b), (c), (d), (e), (g), (j), and (k).
* * * * * * *
18 AAC 50.055 | Industrial Processes and Fuel-Burning Equipment | 8/20/16 | 8/28/17 [Insert Federal Register citation] | Except (d)(2)(B).
* * * * * * *
18 AAC 50 Article 2. Program Administration
* * * * * * *
18 AAC 50.215 | Ambient Air Quality Analysis Methods | 8/20/16 | 8/28/17 [Insert Federal Register citation] | Except (a)(4).
* * * * * * *
18 AAC 50 Article 3. Major Stationary Source Permits
* * * * * * *
18 AAC 50.345 | Construction, Minor and Operating Permits: Standard Permit Conditions | 8/20/16 | 8/28/17 [Insert Federal Register citation] | Except (b), (c)(3), and (l).
* * * * * * *
18 AAC 50 Article 5. Minor Permits
18 AAC 50.502 | Minor Permits for Air Quality Protection | 8/20/16 | 8/28/17 [Insert Federal Register citation] |
* * * * * * *
18 AAC 50.540 | Minor Permit: Application | 8/20/16 | 8/28/17 [Insert Federal Register citation] |
18 AAC 50.542 | Minor Permit: Review and Issuance | 8/20/16 | 8/28/17 [Insert Federal Register citation] | Except (b)(2).
* * * * * * *
18 AAC 50 Article 7. Transportation Conformity
* * * * * * *
18 AAC 50.715 | Interagency Consultation Procedures | 3/2/16 | 8/28/17 [Insert Federal Register citation] |
18 AAC 50.720 | Public Involvement | 3/2/16 | 8/28/17 [Insert Federal Register citation] |
* * * * * * *

* * * * *

[FR Doc. 2017-17861 Filed 8-25-17; 8:45 am]

BILLING CODE 6560-50-P